DEPARTMENT OF LABOR

Employee Benefits Security Administration

146th Meeting of the Advisory Council on Employee Welfare and Pension Benefit Plans; Notice of Meeting

Pursuant to the authority contained in Section 512 of the Employee Retirement Income Security Act of 1974 (ERISA), 29 U.S.C. 1142, the 146th open meeting of the Advisory Council on Employee Welfare and Pension Benefit Plans will be held on July 21-23, 2009.

The three-day meeting will take place in Room N 3437 A&B, U.S. Department of Labor, 200 Constitution Avenue, NW., Washington, DC 20210. The purpose of the open meeting, which will run from 9 a.m. to approximately 5 p.m. each day, with a one hour break for lunch, is for Council members to hear testimony from invited witnesses and to receive an update from the Employee Benefits Security Administration (EBSA).

The Council will study the following issues: (1) Approaches for Retirement Security in the United States, (2) Stable Value Funds and Retirement Security in the Current Economic Conditions, and (3) Promoting Retirement Literacy and Security by Streamlining Disclosures to Participants and Beneficiaries. The schedule for testimony and discussion of these issues generally will be one issue per day in the order noted above. Descriptions of these topics are available on the Advisory Council page of the EBSA Web site, at http://www.dol.gov/ebsa/aboutebsa/erisa_advisory_council.html. The EBSA update is scheduled for the afternoon of July 23, subject to change.

Organizations or members of the public wishing to submit a written statement may do so by submitting 30 copies on or before July 14, 2009 to Larry Good, Executive Secretary, ERISA Advisory Council, U.S. Department of Labor, Suite N-5623, 200 Constitution Avenue, NW., Washington, DC 20210. Statements may also be submitted electronically to good.larry@dol.gov. Relevant statements received on or before July 14, 2009 will be included in the record of the meeting. Individuals or representatives of organizations wishing to address the Advisory Council should forward their requests to the Executive Secretary or telephone (202) 693-8668. Oral presentations will be limited to ten minutes, time permitting, but an extended statement may be submitted for the record. Individuals with disabilities who need special accommodations should contact Larry Good by July 14 at the address indicated.

Signed at Washington, DC, this 30th day of June 2009.
Alan D. Lebowitz,
Deputy Assistant Secretary for Program Operations, Employee Benefits Security Administration.

[FR Doc. E9-15804 Filed 7-2-09; 8:45 am]

BILLING CODE 4510-29-P